DEPARTMENT OF TRANSPORTATION

Federal Aviation Administration

14 CFR Parts 121, 125, 135, and 145

[Docket No. FAA-2000-7952]

RIN 2120-AF71

Service Difficulty Reports

AGENCY: Federal Aviation Administration, DOT.

ACTION: Final rule; delay of effective date.

SUMMARY: The Federal Aviation Administration (FAA) is further delaying the effective date of a final rule that amends the reporting requirements for air carriers and certificated domestic and foreign repair station operators concerning failures, malfunctions, and defects of aircraft, aircraft engines, systems, and components. This action is prompted by concerns the aviation industry raised about the reporting requirements in the final rule and the FAA's decision to issue a notice of proposed rulemaking (NPRM) to address these concerns. The NPRM will present the FAA's proposal on how the agency intends to amend the final rule. Delaying the effective date of the final rule will allow additional time for completion of the NPRM process.

DATES: The effective date of the rule amending 14 CFR parts 121, 125, 135, and 145 published at 65 FR 56191, September 15, 2000, and delayed at 65 FR 80743, December 22, 2000 and at 66 FR 21626, April 30, 2001 until January 16, 2002, is further delayed until January 16, 2003.

FOR FURTHER INFORMATION CONTACT: Jose Figueroa, AFS-300, Federal Aviation Administration, 800 Independence Ave. SW, Washington, DC 20591, 202-267-3797.

SUPPLEMENTARY INFORMATION:

Background

On September 15, 2000, the FAA requested comments on the information collection requirements on the final rule entitled “Service Difficulty Reports” (65 FR 56191). That final rule, which had an effective date of January 16, 2001, amended the reporting requirements for air carriers and certified domestic and foreign repair station operators concerning failures, malfunctions, and defects of aircraft, aircraft engines, systems, and components. The FAA received extensive written comments on the Service Difficulty Reporting (SDR) requirements and on the potential duplicate reporting of certain failures, malfunctions, and defects. On November 30, 2000, the FAA announced (65 FR 71247) that a public meeting on this rulemaking would be held on December 11, 2000. Participants at that meeting raised novel issues that the FAA was not aware of when preparing the final rule.

As a result of the concerns expressed at the meeting and those raised during the comment period for the final rule (published September 15, 2000), the FAA delayed the effective date of the final rule in two subsequent notices. The purpose of these delays was to allow the agency time to consider industry's concerns. The first notice (65 FR 80743) was published on December 22, 2000, and the second notice (66 FR 21626) was published on April 30, 2001. The FAA now anticipates that it will issue an NPRM to address the issues raised and to give the aviation industry and the general public the opportunity to comment on the agency's proposed revisions to the final rule. To allow time to proceed with the NPRM process, the FAA further extends the effective date of the final rule until January 16, 2003. The FAA cautions the industry that the existing rules will remain in effect until the new effective date.

Since the delay in the effective date of the final rule does not impose any new requirements or any additional burden on the regulated public, the FAA finds that good cause exists for immediate adoption of the new effective date without a 30-day notice.

Please note that the FAA transitioned to a new Docket Management System maintained by the Department of Transportation during the course of the SDR rulemaking. The docket number for this rulemaking is now “FAA-2000-7952.” At earlier stages of the rulemaking, the docket number was “28293.”

Issued in Washington DC on November 19, 2001.
Jane F. Garvey,
Administrator.

[FR Doc. 01-29272 Filed 11-21-01; 8:45 am]

BILLING CODE 4910-13-M